OFFICE OF THE UNITED STATES TRADE REPRESENTATIVE

Trade Policy Staff Committee; Request for Public Comment on Draft Environmental Review of Proposed United States-Jordan Free Trade Agreement

ACTION: Notice of Availability and Request for Public Comment on the Draft Environmental Review of the proposed U.S.-Jordan Free Trade Agreement.

SUMMARY: This notice advises that a draft environmental review of the proposed Agreement on the Establishment of a Free Trade Area Between the Government of the United States and the Government of the Hashemite Kingdom of Jordan is now available for review and comment. This review was performed pursuant to Executive Order 13141 and initiated in the Federal Register on June 28, 2000 (65 Fed. Reg. 37976). The draft environment review is available at the Office of the United States Trade Representative (USTR) Reading Room (room 101), at 600 17th Street, N.W., Washington, D.C. 20508, as well as electronically at the USTR website at: http://www.ustr.gov. Persons submitting written comments should note the expedited comment deadline necessitated by the negotiating timetable.

DATES: Comments on the review should be submitted on or before October 11, 2000.

FOR FURTHER INFORMATION CONTACT: For procedural questions concerning public comments, contact Gloria Blue, Executive Secretary, Trade Policy Staff Committee (TPSC), Office of the USTR, 600 17th Street, N.W., Washington, D.C. 20508, (202) 395-3475. All other questions regarding the draft review should be addressed to Kira Alvarez, Director for Marine Resources and Regional Affairs, Office of the USTR (202) 395-7230.

SUPPLEMENTARY INFORMATION: On June 6, 2000, President Clinton agreed to negotiate a biolateral free trade agreement with Jordan's King Abdullah II.. In the negotiations, the United States and Jordan are seeking to eliminate duties and commercial barriers to bilateral trade in U.S. and Jordanian origin goods and are also addressing trade in services, trade-related aspects of intellectual property rights, trade-related environmental and labor matters, and other issues. The TPSE requested written comments from the public to assist USTR in formulating negotiating objectives for the agreement in the Federal Register on June 2000 (65 FR 37594).

An evironmental review of the proposed agreement was initiated on June 28, 2000 (65 FR 39976). In that notice, USTR also requested comments on the scope of the review, including the potential environmental effects that might flow from the free trade agreement and the potential implications for U.S. environmental laws and regulations.

Written Comments. Person submitting written comments should provide twenty(20) copies no later than noon October 11, 2000, to Gloria Blue at the address listed above. Written comments submitted in connection with this request, except for information granted “business confidential” status pursuant to 15 CFR 2003.6, will be available for public inspection in the USTR Reading Room (Room 101) at the address noted above. An appointment to review the file may be made by calling Brenda Webb at (202) 395-6186. The Reading Room is open to the public from 10:00 a. m. to 12 noon and from 1 p.m. to 4 p.m., Monday through Friday.

Business confidential information will be subject to the requirements of 15 CFR 2003.6. Any business confidential material must be clearly marked as such on the cover letter or page and each succeeding page, and must be accompanied by a non-confidential summary thereof. If the submission contains confidential information, twenty (20) copies of a public version that does not contain confidential information must be submitted. A justification as to why the information contained in the submission should be treated confidentially must be included in the submission. In addition, any submissions containing business confidential information must be clearly marked “Confidential” at the top and bottom of the cover page (or letter) and each succeeding page of the submission. The versions that do not contain confidential information should also be clearly marked, at the top and bottom of each page, “public version” or “non-confidential”.

Carmen Suro-Bredie,
Chair, Trade Policy Staff Committee.

[FR Doc. 00-25093 Filed 9-26-00; 4:15 pm]

BILLING CODE 3190-01-M